DEPARTMENT OF HEALTH AND HUMAN SERVICES

Centers for Disease Control and Prevention

[30Day-13-12RO]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Anniston Community Health Survey: Follow-up and Dioxin Analyses (ACHS-II)—New—Agency for Toxic Substances and Disease Registry (ATSDR), Department of Health and Human Services (DHHS).

Background and Brief Description

In the past, polychlorinated biphenyls (PCBs) were used as coolants and lubricants in electrical equipment. They didn't burn easily and were good insulators. PCBs are no longer made in the U.S. They were banned in 1977 because they persist in the environment. The public and the scientific community became concerned about harm to human health from persistent exposure to PCBs.

The City of Anniston, AL, was the site of the former Monsanto facility. PCBs were made there from 1929 to 1971. For decades, PCBs were released into the local air, soil, and surface water. In 1996, residents found out they were exposed. Concerns grew and led to litigation. In 2003, a settlement in favor of the residents was reached in state and federal courts.

The Anniston Environmental Health Research Consortium (AEHRC) was funded by the Agency for Toxic Substances and Disease Registry (ATSDR). The AEHRC conducted the Anniston Community Health Survey (ACHS) from 2005 to 2007. Serum PCB levels in 766 Anniston adults were found to be three to seven times higher than in U.S. adults. Also, higher PCB levels were found in Anniston adults who had high blood pressure and diabetes.

ATSDR and National Institutes of Health (NIH) plan to continue the work of the first ACHS. These agencies will conduct a follow-up study called the ACHS-II. Data collection will be managed by the University of Alabama at Birmingham (UAB) and the Calhoun County Health Department (CCHD).

A sample of 500 surviving ACHS cohort members with PCBs measurements will be enrolled in the ACHS-II. After informed consent, clinical assessments will be done. These will be for blood pressure, height, weight, hip, and body girth. A questionnaire will be answered by computer-assisted personal interviews (CAPIs). Questions will be asked for health, demographic, diet, and lifestyle factors. The self-reported responses will be compared to laboratory analytes. For these, blood samples will be drawn and analyzed.

The ACHS-II will measure the same serum PCBs as in the first Anniston survey. In this way, changes in PCB levels can be studied. The ACHS-II will also include serum analytes for dioxins, furans, dioxin-like PCBs, and chlorinated pesticides. Additional analytes include blood measures of polybrominated biphenyls and heavy metals. Clinical biomarkers will include measures for thyroid, diabetes, lipids, and immune function. This will give a more complete profile of human exposures and health in Anniston, AL.

The ATSDR is requesting a two-year approval for this information collection. The total annualized burden is 227 hours.

There are no costs to respondents other than their time. Each respondent will spend about 2 hours in the study.

Estimated Annualized Burden Hours
Type of respondents | Form name | Number of respondents | Number of responses per respondent | Average burden per response (in hrs)
Adults who took part in first Anniston Community Health Survey | Recruitment Telephone Script Survey for Refusals Update Contact Information Form | 333 160 250 | 1 1 1 | 2/60 1/60 1/60
| Medications Form | 250 | 1 | 3/60
| Blood Draw Form | 250 | 1 | 2/60
| Questionnaire | 250 | 1 | 45/60

Ron A. Otten,
Director, Office of Scientific Integrity, Office of the Associate Director for Science, Office of the Director, Centers for Disease Control and Prevention.

[FR Doc. 2013-09363 Filed 4-19-13; 8:45 am]

BILLING CODE 4163-18-P